DEPARTMENT OF ENERGY

Federal Energy Regulatory Commission

[Docket No. EC01-60-000]

Continental Energy Services, Inc. and BBI Power Corporation; Notice of Filing

January 26, 2001.

Take notice that on January 17, 2001, pursuant to Section 203 of the Federal Power Act and Part 33 of the Commission's regulations, Continental Energy Services, Inc. (Continental), BBI Power Corporation, and CES Acquisition Corporation (Applicants) filed an amendment to the joint application for approval of the disposition of Continental's jurisdictional facilities. The amendment was filed to reflect the fact that CES Acquisition Corporation, a subsidiary of BBI Power Corporation, instead of BBI Power Corporation itself, plans to acquire Continental.

Applicants state that the amendment to the joint application has been served upon the Public Utility Commission of Texas and the Montana Public Service Commission.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before February 7, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm

David P. Boergers,
Secretary.

[FR Doc. 01-2719 Filed 1-31-01; 8:45 am]

BILLING CODE 6717-01-M